COMMODITY FUTURES TRADING COMMISSION

Sunshine Act Meetings

Time and Date: 11 am, Friday, January 13, 2006.

Place: 1155 21st St., NW., Washington, DC, 9th Floor Commission Conference Room.

Status: Closed.

Matters to be Considered: Surveillance Matters.

Contact Person for More Information: Jean A. Webb, 202-418-5100.

Jean A. Webb,
Secretary of the Commission.

[FR Doc. 05-24182 Filed 12-14-05; 11:09 am]

BILLING CODE 6351-01-M